DEPARTMENT OF ENERGY

Federal Energy Regulatory Commission

[Docket Nos. ER00-3767-003, et al.]

Praxair, Inc., et al.; Electric Rate and Corporate Filings

May 9, 2005.

The following filings have been made with the Commission. The filings are listed in ascending order within each docket classification.

1. Praxair, Inc.

[Docket No. ER00-3767-003]

Take notice that on May 2, 2005, Praxair, Inc. (Praxair) filed a supplement to its currently pending triennial market power update and submitted a revised market-based tariff to comply with Investigation of Terms and Conditions of Public Utility Market-Based Rate Authorizations, 105 FERC ¶ 61,218 (2003), on reh'g, 107 FERC 61,175 (2004) and Reporting Requirements for Changes of Status for Public Utilities with Market-Based Rate Authority, 110 FERC ¶ 61,097 (2005).

Comment Date: 5 p.m. Eastern Time on May 23, 2005.

2. Southern California Edison Company

[Docket No. ER02-2263-003]

Take notice that, on May 2, 2005, Southern California Edison Company (SCE) submitted a notification of change in status and a revised market-based tariff sheet reflecting the reporting requirements adopted by the Commission in Order No. 652, Reporting Requirement for Changes in Status for Public Utilities with Market-Based Rate Authority, 110 FERC ¶ 61,097 (2005).

SCE states that copies of the filing were served on all parties in Docket No. ER02-2263.

Comment Date: 5 p.m. Eastern Time on May 23, 2005.

3. Southern California Water Company

[Docket No. ER02-2400-003]

Take notice that, on May 2, 2005, Southern California Water Company (SCWC) submitted a compliance filing pursuant to the Commission's April 1, 2005 letter order directing SCWC to amend its market-based tariff to incorporate language required by the Commission in Reporting Requirement for Changes in Status For Public Utilities With Market-Based Rate Authority, Order No. 652, 110 FERC ¶ 61,097 (2005).

SCWC states that copies of the filing were served on parties on the official service list in the above-captioned proceeding.

Comment date: 5 p.m. Eastern Time on May 23, 2005.

4. Entergy Services, Inc.

[Docket No. ER03-171-005]

Take notice that on May 2, 2005, Entergy Services, Inc. (Entergy Services), on behalf of Entergy Mississippi, Inc. (Entergy Mississippi), tendered for filing an amendment to Entergy Services' November 7, 2002 filing of a unilaterally executed Interconnection and Operating Agreement between Entergy Mississippi and South Mississippi Electric Power Association (SMEPA) under the 1979 Interconnection Agreement between Entergy Mississippi and SMEPA, in response to the Commission's letter requesting further information issued on March 31, 2005.

Comment Date: 5 p.m. Eastern Time on May 23, 2005.

5. Midwest Independent Transmission System Operator, Inc. and PJM Interconnection, L.L.C.

[Docket No. ER04-375-021]

Take notice that on May 2, 2005, the Midwest Independent Transmission System Operator, Inc. (Midwest ISO) and PJM Interconnection, L.L.C. (PJM), submitted revisions to the Joint Operating Agreement between the Midwest ISO and PJM in compliance with the Commission's order issued March 3, 2005 in Midwest Independent Transmission System Operator, Inc., 110 FERC ¶ 61,226 (2005).

Comment Date: 5 p.m. Eastern Time on May 23, 2005.

6. Midwest Independent Transmission System Operator, Inc.

[Docket Nos. ER04-691-036; EL04-104-034; ER04-106-007]

Take notice that on May 2, 2005, as amended on May 3, 2005, the Midwest Independent Transmission System Operator, Inc. (Midwest ISO) submitted a compliance filing pursuant to the Commission's order issued April 15, 2005 in Midwest Independent Transmission System Operator, Inc., 111 FERC ¶ 61,043 (2005).

Comment Date: 5 p.m. Eastern Time on May 23, 2005.

7. New York Independent System Operator, Inc.

[Docket No. ER05-119-000]

Take notice that on May 2, 2005, New York Independent System Operator, Inc. (NYISO) submitted a Report on Status of Voltage Support Service Enhancements in compliance with the Commission's order issued December 28, 2004 in New York Independent System Operator, Inc., 109 FERC ¶ 61,367 (2004).

Comment Date: 5 p.m. Eastern Time on May 23, 2005.

8. ISO New England Inc. and New England Power Pool

[Docket No. ER05-531-002]

Take notice that on May 2, 2005, ISO New England Inc. (the ISO) and the New England Power Pool (NEPOOL) Participants Committee jointly submitted a compliance filing pursuant to the Commission's order issued March 31, 2005 in Docket No. ER05-531-000, New England Power Pool and ISO New England Inc., 110 FERC ¶ 61,396 (2005).

The ISO and NEPOOL state that copies of the filing were served on parties on the official service list in the above-referenced proceeding, as well as, to the governors and state regulatory commissions in the New England states. The ISO and NEPOOL further state that electronic copies were submitted to the NEPOOL Participants Committee members, which constitute the ISO's Governance Participants.

Comment Date: 5 p.m. Eastern Time on May 23, 2005.

9. Michigan Electric Transmission Company, LLC

[Docket No. ER05-704-001]

Take notice that on May 2, 2005 Michigan Electric Transmission Company, LLC (METC) submitted certain information intended to supplement its March 14, 2005 filing in Docket No. ER05-704-000.

Comment Date: 5 p.m. Eastern Time on May 23, 2005.

10. KRK Energy

[Docket No. ER05-713-002]

Take notice that on May 2, 2005, KRK Energy submitted an amendment to it April 15, 2005 filing in Docket No. ER05-713-001

Comment Date: 5 p.m. Eastern Time on May 23, 2005.

11. Puget Sound Energy, Inc.

[Docket No. ER05-861-001]

Take notice that on May 2, 2005, Powerex Corp. (Powerex) submitted for filing a Certificate of Concurrence with respect to Puget Sound Energy, Inc.'s April 26, 2005 filing of an amendment to the agreement for a Temporary Puget Sound Area and Northern Intertie Redispatch Pilot Program in Docket No. ER05-861-000.

Powerex states that copies of the filing have been provided to Bonneville Power Administration, Puget Sound Energy, and City of Seattle, Public Utility District No. 1 of Snohomish County, and Intalco Aluminum Corporation.

Comment Date: 5 p.m. Eastern Time on May 23, 2005.

12. Westar Energy, Inc.

[Docket No. ER05-925-000]

Take notice that on May 2, 2005, Westar Energy, Inc. (Westar) submitted changes to Westar's Open Access Transmission Tariff, FERC Electric Tariff, Second Revised Volume No. 5 (Westar OATT) in order to update its Schedules 1, 2, 3, 5, 6, 7, and 8, and Attachment H and to incorporate a new Attachment H-1 that sets forth a formula to be used annually to update rates for transmission service on the Westar system. Westar proposes an effective date of July 1, 2005 for the changes to the Westar OATT, which is sixty days from the date of filing.

Westar states it has served a copy of this filing on each of the affected customer and state commissions.

Comment Date: 5 p.m. Eastern Time on May 23, 2005.

13. Midwest Independent Transmission System Operator, Inc.

[Docket No. ER05-926-000]

Take notice that on May 2, 2005, the Midwest Independent Transmission System Operator, Inc. (Midwest ISO) submitted a Large Generator Interconnection Agreement among Zilkha Renewable Energy Midwest IV, LLC, Interstate Power and Light Company, a wholly-owned subsidiary of Alliant Energy Corporation, and the Midwest ISO.

Midwest ISO states that a copy of this filing was served on Zilkha Renewable Energy Midwest IV, LLC and Interstate Power and Light Company.

Comment Date: 5 p.m. Eastern Time on May 23, 2005.

14. PJM Interconnection, L.L.C.

[Docket No. ER05-927-000]

Take notice that on May 2, 2005, PJM Interconnection, L.L.C. (PJM), submitted for filing an executed interconnection service agreement (ISA) and an executed construction service agreement (CSA) among PJM, the Harrisburg Authority, and PPL Electric Utilities. PJM requests a waiver of the Commission's 60-day notice requirement to permit a March 31, 2005 effective date for the ISA and CSA.

PJM states that copies of this filing were served upon the parties to the agreements and the state regulatory commissions within the PJM region.

Comment Date: 5 p.m. Eastern Time on May 23, 2005.

15. Duke Energy Corporation

[Docket No. ER05-928-000]

Take notice that, on May 2, 2005, Duke Energy Corporation, on behalf of Duke Electric Transmission, (collectively, Duke), submitted revised tariff sheets in compliance with Order No. 2003-B, Standardization of Interconnection Agreements and Procedures, 109 FERC ¶ 61,287. Duke requests as effective date of January 19, 2005

Duke states that copies of the filing were served on all Open Access Transmission Tariff customers as well as the North Carolina and South Carolina Public Service Commissions.

Comment Date: 5 p.m. Eastern Time on May 23, 2005.

16. Premcor Generating LLC

[Docket No. ER05-929-000]

Take notice that on May 2, 2005, Premcor Generating LLC, tendered for filing a Notice of Cancellation pursuant to 18 CFR 35.15 to reflect the cancellation of its FERC Electric Service Tariff, Rate schedule FERC No. 1, Original Sheet Nos. 1-3.

Premcor Generating LLC states that copies of this filing were served upon the public utility's jurisdictional customers, Premcor Power Marketing LLC and Tennessee Valley Authority.

Comment Date: 5 p.m. Eastern Time on May 23, 2005.

17. Black Hills Colorado, LLC

[Docket No. ER05-930-000]

Take notice that on May 2, 2005, Black Hills Colorado, LLC submitted a Notice of Succession, notifying the Commission that it has succeeded, by reason of name change, to the market-based rate wholesale power sales rate schedule of Indeck Colorado, LLC, FERC Electric Rate Schedule No. 1, together with service agreements thereunder. Black Hills requests an effective date of June 29, 2000.

Comment Date: 5 p.m. Eastern Time on May 23, 2005.

18. Midwest Independent Transmission System Operator, Inc.

[Docket No. ER05-932-000]

Take notice that on May 2, 2005, the Midwest Independent Transmission System Operator, Inc. (Midwest ISO) filed proposed revisions to its Open Access Transmission and Energy Markets Tariff to clarify certain provisions of the Tariff.

Comment Date: 5 p.m. Eastern Time on May 23, 2005.

19. Idaho Power Company

[Docket No. ER97-1481-009]

Take notice that on May 2, 2005, Idaho Power Company (Idaho Power) submitted a Notice of Change in Status pursuant to the Commission's Order issued March 3, 2005 in Idaho Power Co., 110 FERC ¶ 61,219 (2005) and Order No. 652, Reporting Requirements for Changes in Status for Public Utilities with Market-Based Authority, 110 FERC ¶ 61,097 (2005).

Idaho Power Company states that copies of the filing were served on parties on the official service list.

Comment Date: 5 p.m. Eastern Time on May 23, 2005.

20. The Empire District Electric Company

[Docket Nos. ER99-1757-009]

Take notice that, on May 2, 2005, The Empire District Electric Company (Empire) submitted a compliance filing pursuant to the Commission's order issued March 3, 2005 in The Empire District Electric Company, 110 FERC ¶ 61,214 (2005).

Empire states that copies of the filing were served on wholesale customers in Empire's control area in the Southwest Power Pool, Inc., parties on the official service list, and the appropriate state commissions.

Comment Date: 5 p.m. Eastern Time on May 23, 2005.

21. Tampa Electric Company, Panda Gila River, L.P., Union Power Partners, L.P., TECO EnergySource, Inc., Commonwealth Chesapeake Company, L.L.C., TPS Dell, LLC, TPS McAdams, LLC and TECO-PANDA Generating Company, L.P.

[Docket Nos. ER99-2342-007, ER01-931-011; ER01-930-011;. ER96-1563-024; ER99-415-010; ER02-510-007;. ER02-507-007; ER02-1000-002]

Take notice that, on May 2, 2005, Tampa Electric Company, Panda Gila River, L.P., Union Power Partners, L.P., TECO Energy Source, Inc., TPS Dell, LLC, TPS McAdams, LLC, and TECO-PANDA Generating Company, L.P. submitted a filing in compliance with the Commission's Order issued March 3, 2005, in Tampa Electric Company, et al., 110 FERC ¶ 61,206 (2005).

Comment Date: 5 p.m. Eastern Time on May 23, 2005.

22. Baltimore Gas and Electric Company, Constellation Power Source Generation, Inc., Calvert Cliffs Nuclear Power Plant, Inc., Constellation Energy Commodities Group, Inc. (f/k/a Constellation Power Source, Inc.), Handsome Lake Energy, LLC, University Park Energy, LLC, Holland Energy , LLC, Wolf Hills Energy, LLC, Big Sandy Peaker Plant, LLC, Nine Mile Point Nuclear Station, LLC, High Desert Power Project, LLC, Constellation NewEnergy, Inc., Constellation Energy Commodities Group Maine, LLC (f/k/a Constellation Power Source Maine, LLC), Power Provider LLC and R.E. Ginna Nuclear Power Plant, LLC

[Docket Nos. ER99-2948-004, ER00-2918-004, ER00-2917-004, ER05-261-001, ER01-556-003, ER01-557-003, ER01-558-003, ER01-559-003, ER01-560-003, ER01-1654-006, ER01-2641-004, ER02-2567-004, ER05-728-001, ER01-1949-004 and ER04-485-001]

Take notice that on May 2, 2005, the above-captioned entities (Constellation MBR Entities) filed a Notice of Change in Status and revised market-based rate tariff sheets to incorporate the reporting requirements adopted by the Commission in Order No. 652, Reporting Requirement for Change in Status for Public Utilities with Market-Based Rate Authority, 110 FERC ¶ 61,097 (2005).

The Constellation MBR Entities state that copies of this notification were served upon all persons on the service lists in the above-captioned dockets.

Comment Date: 5 p.m. Eastern Time on May 23, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Linda Mitry,
Deputy Secretary.

[FR Doc. E5-2373 Filed 5-12-05; 8:45 am]

BILLING CODE 6717-01-P